DEPARTMENT OF HEALTH AND HUMAN SERVICES

Food and Drug Administration

[Docket Nos. FDA-2011-N-0075; FDA-2011-N-0015; FDA-2011-N-0076; FDA-2017-N-0932; FDA-2016-N-4487; FDA-2014-N-0345; FDA-2013-N-0523; FDA-2017-N-2428; FDA-2008-N-0312; and FDA-2014-N-1072]

Agency Information Collection Activities; Announcement of Office of Management and Budget Approvals; Correction

AGENCY: Food and Drug Administration, HHS.

ACTION: Notice; correction.

SUMMARY: The Food and Drug Administration is correcting a notice entitled “Agency Information Collection Activities; Announcement of Office of Management and Budget Approvals” that appeared in the Federal Register of April 9, 2018. The document announced a list of information collections that have been approved by the Office of Management and Budget (OMB) under the Paperwork Reduction Act of 1995. The document was published with an incorrect docket number. This document corrects that error.

FOR FURTHER INFORMATION CONTACT: Lisa Granger, Office of Policy and Planning, Food and Drug Administration, 10903 New Hampshire Ave., Bldg. 32, Rm. 3330, Silver Spring, MD 20993-0002, 301-796-9115.

SUPPLEMENTARY INFORMATION: In the Federal Register of Tuesday, April 9, 2018 (83 FR 15152), in FR Doc. 2018-07147, on page 15152, the following correction is made:

1. On page 15152, in the second column, in the first line of the list of docket numbers, “FDA-2014-N-0075” is corrected to read “FDA-2011-N-0075.”

Dated: April 30, 2018.
Leslie Kux,
Associate Commissioner for Policy.

[FR Doc. 2018-09437 Filed 5-3-18; 8:45 am]

BILLING CODE 4164-01-P